DEPARTMENT OF AGRICULTURE

Agricultural Marketing Service

7 CFR Parts 1000 and 1032

[Docket # DA-03-09; AO-313-A45]

Milk in the Central Marketing Area

AGENCY: Agricultural Marketing Service, USDA.

ACTION: Final rule; technical amendment.

SUMMARY: In a final rule published in the Federal Register on December 17, 1999 (64 FR 70868) the Agricultural Marketing Service (AMS) consolidated Federal milk marketing orders. This document adds “Broomfield” to the Adjusted Class I differentials table.

EFFECTIVE DATE: August 16, 2003.

FOR FURTHER INFORMATION CONTACT: Jack Rower, Marketing Specialist, Order Formulation and Enforcement Branch, USDA/AMS/Dairy Programs, Stop 0231-Room 2971, 1400 Independence Avenue, SW., Washington, DC 20250-0231, (202) 720-9363, e-mail: jack.rower@usda.gov.

SUPPLEMENTARY INFORMATION:

Background

On December 17, 1999, the Agricultural Marketing Service published a final rule consolidating the Federal milk marketing orders and changing the Class I differentials contained therein. Subsequent to adoption of this final regulation, on November 15, 2001, Broomfield became Colorado's 64th county as a result of an amendment to the Colorado State constitution.

This document amends the regulations by adding the county of Broomfield, CO, to both parts 1000 and 1032 in the General Provisions of Federal milk marketing orders and the Central marketing area, respectively.

List of Subjects in 7 CFR Parts 1000 and 1032

Milk marketing orders.

Accordingly we are amending 7 CFR parts 1000 and 1032 as follows:

1. The authority citation for 7 CFR parts 1000 and 1032 continues to read as follows:

Authority: 7 U.S.C. 601-674.

PART 1000—[AMENDED]

2. Section 1000.52 is amended by adding “Broomfield, CO” immediately following “Boulder, CO” in the table to read as follows:

§ 1000.52 Adjusted Class I differentials.

* * * * *

County/parish/city | State | FIPS code | Class I differential adjusted for location
* * * * * * *
BROOMFIELD | CO | 08014 | 2.45
* * * * * * *

PART 1032—[AMENDED]

3. In § 1032.2, the county “Broomfield” is added immediately following “Boulder”.

Dated: August 11, 2003.
A.J. Yates,
Administrator, Agricultural Marketing Service.

[FR Doc. 03-20817 Filed 8-14-03; 8:45 am]

BILLING CODE 3410-02-U